DEPARTMENT OF HOMELAND SECURITY

Coast Guard

33 CFR Part 53

[USCG-2009-0239]

RIN 1625-AB33

Protection for Whistleblowers in the Coast Guard

AGENCY: Coast Guard, DHS.

ACTION: Direct final rule; confirmation of effective date.

SUMMARY: On December 21, 2010, the Coast Guard published a direct final rule that notified the public of the Coast Guard's intent to amend its “Coast Guard Whistleblower Protection” regulations to conform to statutory protections for all members of the Armed Forces. We have not received an adverse comment, or notice of intent to submit an adverse comment, on this rule. Therefore, the rule will go into effect as scheduled.

DATES: The effective date of the direct final rule published December 21, 2010, (75 FR 79956), is confirmed as April 20, 2011.

ADDRESSES: The docket for this rulemaking, USCG-2009-0239, is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, typing USCG-2009-0239 in the “Keyword” box, and then clicking “Search.”

FOR FURTHER INFORMATION CONTACT: If you have questions on this notice, e-mail or call Commander Michael Cavallaro, U.S. Coast Guard Office of General Law, telephone 202-372-3777, e-mail Michael.S.Cavallaro@uscg.mil. If you have questions on viewing or submitting material to the docket, call Renee V. Wright, Program Manager, Docket Operations, telephone 202-366-9826.

SUPPLEMENTARY INFORMATION: On December 21, 2010, we published a direct final rule entitled “Protection for Whistleblowers in the Coast Guard” in the Federal Register. (75 FR 79956). That rule broadens the whistleblower protection already afforded uniformed members of the Coast Guard by conforming Coast Guard regulations to statutory changes made to broaden whistleblower protections for all members of the Armed Forces.

We published the rule as a direct final rule under 33 CFR 1.05-55 because we considered this rule to be noncontroversial and did not expect an adverse comment regarding this rulemaking. In the direct final rule we notified the public of our intent to make the rule effective on April 20, 2011, unless adverse comment or notice of intent to submit an adverse comment was received on or before February 22, 2011. We have not received any comments, or notice of intent to submit an adverse comment, on this rulemaking. Therefore the rule will go into effect as scheduled, on April 20, 2011.

Dated: March 25, 2011.
F.J. Kenney,
Rear Admiral, U.S. Coast Guard, Judge Advocate General.

[FR Doc. 2011-7642 Filed 3-30-11; 8:45 am]

BILLING CODE 9110-04-P